FEDERAL MARITIME COMMISSION

[Docket No. 14-16]

Baltic Auto Shipping, Inc. v. Michael Hitrinov a/k/a Michael Khitrinov, Empire United Lines Co., Inc.; Notice of Filing of Complaint and Assignment

Notice is given that a complaint has been filed with the Federal Maritime Commission (Commission) by Baltic Auto Shipping, Inc., hereinafter “Complainant,” against Michael Hitrinov (“Hitrinov”) and Empire United Lines Co., Inc. (“EUL”), hereinafter “Respondents.” Complainant states that it is an Illinois corporation. Complainant alleges that Respondent EUL is a licensed NVOCC, and Respondent Hitrinov is “the sole principal and officer of EUL.”

Complainant alleges that Respondents have violated the Shipping Act, 46 U.S.C. 41102, 41104, 40501, and 46 CFR part 515, in connection with shipment of over 4000 used automobiles over a five year period and charging rates “in excess of the amounts set forth in EUL's tariff.” Complainant alleges it “has sustained and continued to sustain injuries and damages in excess of $400,000.”

Complainant seeks that Respondents “be required to answer the charges herein; that after due hearing, an order be made commanding said respondent to pay to Complainant by way of reparations for the unlawful conduct . . . with interest and attorney's fees or such other sum as the Commission may determine to be proper as an award of reparation; and that such other and further order or orders be made as the Commission determines to be proper in the premises.”

The full text of the complaint can be found in the Commission's Electronic Reading Room at www.fmc.gov/14-16.

This proceeding has been assigned to the Office of Administrative Law Judges. The initial decision of the presiding officer in this proceeding shall be issued by December 1, 2015 and the final decision of the Commission shall be issued by June 1, 2016.

Karen V. Gregory,
Secretary.

[FR Doc. 2014-28539 Filed 12-4-14; 8:45 am]

BILLING CODE 6730-01-P